U.S. DEPARTMENT OF COMMERCE

Foreign-Trade Zones Board

[Order No. 1452]

Grant of Authority for Subzone Status, JBE, Inc. (Automotive Parts), Hartsville, South Carolina

Pursuant to its authority under the Foreign-Trade Zones Act, of June 18, 1934, as amended (19 U.S.C. 81a-81u), the Foreign-Trade Zones Board (the Board) adopts the following Order:

Whereas, the Foreign-Trade Zones Act provides for ” * * * the establishment * * * of foreign-trade zones in ports of entry of the United States, to expedite and encourage foreign commerce, and for other purposes,” and authorizes the Foreign-Trade Zones Board to grant to qualified corporations the privilege of establishing foreign-trade zones in or adjacent to U.S. Customs and Border Protection ports of entry;

Whereas, the Board's regulations (15 CFR Part 400) provide for the establishment of special-purpose subzones when existing zone facilities cannot serve the specific use involved, and when the activity results in a significant public benefit and is in the public interest;

Whereas, the Columbia Metropolitan Airport, grantee of Foreign-Trade Zone 127, has made application to the Board for authority to establish a special-purpose subzone at the automotive parts distribution and assembly facility of JBE, Inc., located in Hartsville, South Carolina (FTZ Docket 55-2005, filed 11/2/05);

Whereas, notice inviting public comment was given in the Federal Register (70 FR 69937, 11/18/05); and,

Whereas, the Board adopts the findings and recommendations of the examiner's report, and finds that the requirements of the FTZ Act and the Board's regulations would be satisfied, and that approval of the application would be in the public interest if approval is subject to the condition listed below;

Now, therefore, the Board hereby grants authority for subzone status for activity related to the distribution and assembly of automotive parts at the facility of JBE, Inc., located in Hartsville, South Carolina (Subzone 127B), as described in the application and Federal Register notice, and subject to the FTZ Act and the Board's regulations, including Section 400.28, and subject to the following condition:

• JBE, Inc., shall notify the Board's Executive Secretary, as indicated in the application, prior to the start of any manufacturing or assembly activity involving foreign status inputs.

Signed at Washington, DC, this 26th day of May 2006.

David M. Spooner,
Assistant Secretary of Commerce for Import Administration.
Alternate Chairman Foreign-Trade Zones Board.
Attest:
Dennis Puccinelli,
Executive Secretary.

[FR Doc. E6-9306 Filed 6-13-06; 8:45 am]

BILLING CODE 3510-DS-S